ENVIRONMENTAL PROTECTION AGENCY

40 CFR Parts 52 and 97

[EPA-R03-OAR-2007-0448; FRL-8493-2]

Approval and Promulgation of Air Quality Implementation Plans; West Virginia; Withdrawal of Direct Final Rule

AGENCY: Environmental Protection Agency (EPA).

ACTION: Withdrawal of Direct final rule.

SUMMARY: Due to an adverse comment, EPA is withdrawing the direct final rule to approve a SIP revision submitted by West Virginia pertaining to its abbreviated SIP for the Clean Air Interstate Rule (CAIR) Nitrogen Oxides (NOX) Annual and NOX Ozone Season trading programs. In the direct final rule published on September 13, 2007 (72 FR 52289), we stated that if we received adverse comment by October 15, 2007, the rule would be withdrawn and not take effect. EPA subsequently received an adverse comment. EPA will address the comment received in a subsequent final action based upon the proposed action also published on September 13, 2007 (72 FR 52325). EPA will not institute a second comment period on this action.

DATES: Effective Date: The Direct final rule is withdrawn as of November 7, 2007.

FOR FURTHER INFORMATION CONTACT: Marilyn Powers, (215) 814-2308, or by e-mail at powers.marilyn@epa.gov.

List of Subjects

40 CFR Part 52

Environmental protection, Air pollution control, Nitrogen dioxide, Ozone, Particulate Matter, Reporting and recordkeeping requirements, Sulfur oxides.

40 CFR Part 97

Environmental protection, Administrative practice and procedure, Air pollution control, Intergovernmental relations, Nitrogen oxides, Ozone, Reporting and recordkeeping requirements.

Dated: October 29, 2007.
Donald S. Welsh,
Regional Administrator, Region III.

Accordingly, the addition of entries for 45 CSR 39 and 40 to the table in paragraph (c) and the addition of an entry for Article 3, Chapter 64 of the Code of West Virginia to the table in paragraph (e) of § 52.2520 are withdrawn as of November 7, 2007.

[FR Doc. E7-21863 Filed 11-6-07; 8:45 am]

BILLING CODE 6560-50-P